DEPARTMENT OF THE TREASURY

Office of Foreign Assets Control

Additional Designations, Foreign Narcotics Kingpin Designation Act

AGENCY: Office of Foreign Assets Control, Treasury.

ACTION: Notice.

SUMMARY: The U.S. Department of the Treasury's Office of Foreign Assets Control (“OFAC”) is publishing the names of three individuals and one entity whose property and interests in property have been blocked pursuant to the Foreign Narcotics Kingpin Designation Act (“Kingpin Act”) (21 U.S.C. 1901-1908, 8 U.S.C. 1182).

DATES: The designation by the Director of OFAC of the three individuals and one entity identified in this notice pursuant to section 805(b) of the Kingpin Act is effective on September 11, 2014.

FOR FURTHER INFORMATION CONTACT: Assistant Director, Sanctions Compliance & Evaluation, Office of Foreign Assets Control, U.S. Department of the Treasury, Washington, DC 20220, Tel: (202) 622-2490.

SUPPLEMENTARY INFORMATION:

Electronic and Facsimile Availability

This document and additional information concerning OFAC are available on OFAC's Web site at http://www.treasury.gov/ofac or via facsimile through a 24-hour fax-on-demand service at (202) 622-0077.

Background

The Kingpin Act became law on December 3, 1999. The Kingpin Act establishes a program targeting the activities of significant foreign narcotics traffickers and their organizations on a worldwide basis. It provides a statutory framework for the imposition of sanctions against significant foreign narcotics traffickers and their organizations on a worldwide basis, with the objective of denying their businesses and agents access to the U.S. financial system and the benefits of trade and transactions involving U.S. companies and individuals.

The Kingpin Act blocks all property and interests in property, subject to U.S. jurisdiction, owned or controlled by significant foreign narcotics traffickers as identified by the President. In addition, the Secretary of the Treasury, in consultation with the Attorney General, the Director of the Central Intelligence Agency, the Director of the Federal Bureau of Investigation, the Administrator of the Drug Enforcement Administration, the Secretary of Defense, the Secretary of State, and the Secretary of Homeland Security may designate and block the property and interests in property, subject to U.S. jurisdiction, of persons who are found to be: (1) Materially assisting in, or providing financial or technological support for or to, or providing goods or services in support of, the international narcotics trafficking activities of a person designated pursuant to the Kingpin Act; (2) owned, controlled, or directed by, or acting for or on behalf of, a person designated pursuant to the Kingpin Act; or (3) playing a significant role in international narcotics trafficking.

On September 11, 2014, the Director of OFAC designated the following three individuals and one entity whose property and interests in property are blocked pursuant to section 805(b) of the Kingpin Act.

Individuals:

1. AVINA BRIBIESCA, Jose, Avenida Santa Margarita numero 4950-86, Zapopan, Jalisco, Mexico; Loma del Infante Casa 25, Col. Lomas de Atemajac, Zapopan, Jalisco CP 45178, Mexico; DOB 23 Apr 1977; POB Distrito Federal, Mexico; R.F.C. AIBJ770423NG1 (Mexico); C.U.R.P. AIBJ770423HDFVRS07 (Mexico) (individual) [SDNTK] (Linked To: BONA-HABITAT, S.A. DE C.V.).

2. GONZALEZ HERNANDEZ, Ignacio, Paseo San Arturo numero 2051, Fraccionamiento Valle Real, Zapopan, Jalisco, Mexico; Morelos No. 2223, Arcos Vallarta, Guadalajara, Jalisco 44130, Mexico; DOB 16 Nov 1974; POB Guadalajara, Jalisco, Mexico; Passport 3116072917339 (Mexico); R.F.C. GOHI-741116 (Mexico); C.U.R.P. GOHI741116HJCNRG02 (Mexico) (individual) [SDNTK] (Linked To: BONA-HABITAT, S.A. DE C.V.; Linked To: URBANIZADORA NUEVA ITALIA, S.A. DE C.V.).

3. GONZALEZ LINARES, Janette Iliana, Primavera 3172, Col. Loma Bonita, Guadalajara, Jalisco CP 44980, Mexico; DOB 28 Aug 1985; POB Zapopan, Jalisco, Mexico; C.U.R.P. GOLJ850828MJCNNN02 (Mexico) (individual) [SDNTK] (Linked To: BONA-HABITAT, S.A. DE C.V.).

Entity:

4. BONA-HABITAT, S.A. DE C.V. (a.k.a. “BONA HABITAT”), Morelos 2223, Col. Arcos Vallarta, Guadalajara, Jalisco, Mexico; Folio Mercantil No. 44338-1 (Mexico) [SDNTK].

Dated: September 11, 2014.
Adam J. Szubin,
Director, Office of Foreign Assets Control.

[FR Doc. 2014-22152 Filed 9-16-14; 8:45 am]

BILLING CODE 4810-AL-P